DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before August 31, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, or viewing the entire information collection request at www.reginfo.gov.

SUPPLEMENTARY INFORMATION:

Alcohol and Tobacco Tax and Trade Bureau (TTB)

OMB Number: 1513-0013.

Type of Review: Revision of a currently approved collection.

Title: Change of Bond (Consent of Surety).

Form: TTB F 5000.18.

Abstract: To ensure that the Federal excise tax revenue imposed on alcohol and tobacco products under the provisions of chapter 51 and chapter 52 of the IRC is not jeopardized, TTB is authorized by the IRC at 26 U.S.C. 5114, 5173, 5272, 5354, 5401, and 5711 to require persons qualified to operate or deal in these industries to post a bond to ensure payment of Federal excise taxes by the bonding company should the proprietor default. Should the circumstances of a proprietor's operation change from the original bond agreement, TTB regulations require the filing of form TTB F 5000.18, Change of Bond (Consent of Surety), in lieu of obtaining a new bond. This form is executed by both the proprietor and the bonding company, and it acts as an extension of the original bond, identifying new activities or conditions previously not identified on the bond. TTB F 5000.18 is executed in the same manner as a bond and has the same authority as a binding legal agreement to protect the revenue.

Affected Public: Private Sector: Businesses or other for-profits.

Estimated Annual Burden Hours: 2,000.

OMB Number: 1513-0020.

Type of Review: Revision of a currently approved collection.

Title: Application for and Certification/Exemption of Label/Bottle Approval.

Form: TTB F 5100.31.

Abstract: To provide consumers with adequate information as to the identity of alcohol beverage products and to prevent consumer deception and unfair advertising practices, the Federal Alcohol Administration Act at 27 U.S.C. 205(e) requires that alcohol beverages sold or introduced into interstate or foreign commerce be labeled in conformity with regulations issued by the Secretary of the Treasury. Further, the producer, bottler, or importer of alcohol beverages must receive approval of the label for such products from TTB prior to their introduction into commerce. TTB F 5100.31 is a dual-use form; industry members use it to request and to obtain the required label approval. The form serves as both an application for and, if approved by TTB, a certificate of label approval (or exemption from a certificate of label approval).

Affected Public: Private Sector: Businesses or other for-profits.

Estimated Annual Burden Hours: 73,596.

OMB Number: 1513-0052.

Type of Review: Extension without change of a currently approved collection.

Title: Alcohol Fuel Plants (AFP) Records, Reports, and Notices (REC 5110/10).

Form: TTB F 5110.75.

Abstract: To safeguard Federal alcohol excise tax revenue, 26 U.S.C. 5181 and 5207 require that a proprietor of an alcohol fuel plant (AFP) make such application, maintain such records, and render such reports as the Secretary of the Treasury shall prescribe. The TTB regulations in 27 CFR, part 19, subpart X, implement those statutory requirements. The information collected under these regulations is necessary to identify and determine that persons are qualified to produce alcohol for fuel purposes, to account for distilled spirits produced and verify its proper disposition, to keep registrations current, and to evaluate permissible variations from prescribed procedures.

Affected Public: Private Sector: Businesses or other for-profits; farms.

Estimated Annual Burden Hours: 2,784.

OMB Number: 1513-0107.

Type of Review: Revision of a currently approved collection.

Title: Monthly Report—Importer of Tobacco Products or Processed Tobacco.

Form: TTB F 5220.6.

Abstract: Reports on the importation and disposition of tobacco products and processed tobacco are used, along with other information, to determine whether those persons issued the permits required by 26 U.S.C. 5713 are complying with TTB regulations. Those engaged in importing tobacco products and processed tobacco are required to account for the importation and disposition of such products on a monthly basis so TTB may determine if tobacco products or processed tobacco are being diverted for illegal purposes and to ensure that holders of basic permits are engaging in the operations stated on their basic permit.

Affected Public: Private Sector: Businesses or other for-profits.

Estimated Annual Burden Hours: 3,696.

OMB Number: 1513-0118.

Type of Review: Revision of a currently approved collection.

Title: Formulas for Fermented Beverage Products, TTB REC 5052/1.

Abstract: Section 5052 of the Internal Revenue Code of 1986 (IRC; 26 U.S.C. 5052) defines the term “beer” to include, among other things, certain traditional products such as beer, ale, porter, and stout. The TTB regulations require brewers to file formulas for certain non-traditional fermented products, including products to which flavors, colorings, or other nonbeverage ingredients are added (see 27 CFR 25.55). As needed, brewers file a formula as written notice, and the TTB regulations provide that a brewer operating multiple breweries may file a single formula to cover the production of a specified fermented product at all of their breweries.

Affected Public: Private Sector: Businesses or other for-profits.

Estimated Annual Burden Hours: 1,326.

Dated: July 27, 2015.
Dawn D. Wolfgang,
Treasury PRA Clearance Officer.

[FR Doc. 2015-18644 Filed 7-29-15; 8:45 am]

BILLING CODE 4810-31-P